LIBRARY OF CONGRESS

Copyright Royalty Board

[Docket No. 19-CRB-0016-AU (Spanish Broadcasting System, Inc.)]

Notice of Intent To Audit

AGENCY: Copyright Royalty Board (CRB), Library of Congress.

ACTION: Public notice.

SUMMARY: The Copyright Royalty Judges announce receipt of a notice of intent to audit the 2016, 2017, and 2018 statements of account submitted by the Spanish Broadcasting System, Inc. concerning the royalty payments it made pursuant to two statutory licenses.

ADDRESSES: Docket: For access to the docket to read background documents, go to eCRB, the Copyright Royalty Board's electronic filing and case management system, at https://app.crb.gov/ and search for docket number 19-CRB-0016-AU (Spanish Broadcasting System, Inc.).

FOR FURTHER INFORMATION CONTACT: Anita Blaine, Program Specialist, by telephone at (202) 707-7658 or by email at crb@loc.gov.

SUPPLEMENTARY INFORMATION: The Copyright Act, title 17 of the United States Code, grants to sound recordings copyright owners the exclusive right to publicly perform sound recordings by means of certain digital audio transmissions, subject to limitations. Specifically, the performance right is limited by the statutory license in section 114, which allows nonexempt noninteractive digital subscription services, eligible nonsubscription services, pre-existing subscription services, and preexisting satellite digital audio radio services to perform publicly sound recordings by means of digital audio transmissions. 17 U.S.C. 114(f). In addition, a statutory license in section 112 allows a service to make necessary ephemeral reproductions to facilitate the digital transmission of the sound recording. 17 U.S.C. 112(e).

Licensees may operate under these licenses provided they pay the royalty fees and comply with the terms set by the Copyright Royalty Judges. The rates and terms for the section 112 and 114 licenses are set forth in 37 CFR parts 380 and 382 through 384.

As part of the terms for these licenses, the Judges designated SoundExchange, Inc., as the Collective, i.e., the organization charged with collecting royalty payments and statements of account submitted by eligible licensees and with distributing royalties to the copyright owners and performers entitled to receive them under the section 112 and 114 licenses. See, e.g., 37 CFR 380.2(a).

As the Collective, SoundExchange may, only once a year, conduct an audit of a licensee for any or all of the prior three calendar years in order to verify royalty payments. SoundExchange must first file with the Judges a notice of intent to audit a licensee and deliver the notice to the licensee. See, e.g., 37 CFR 380.6(b)-(c).

On December 20, 2019, SoundExchange filed with the Judges a notice of intent to audit commercial webcaster Spanish Broadcasting System, Inc., for the years 2016, 2017, and 2018. The Judges must publish notice in the Federal Register within 30 days of receipt of a notice announcing the Collective's intent to conduct an audit. See 37 CFR 380.6(c). Today's notice fulfills this requirement with respect to SoundExchange's notice of intent to audit filed December 20, 2019.

Dated: January 15, 2020.
Jesse M. Feder,
Chief Copyright Royalty Judge.

[FR Doc. 2020-00854 Filed 1-17-20; 8:45 am]

BILLING CODE 1410-72-P